DEPARTMENT OF TRANSPORTATION

Federal Aviation Administration

Notice of Intent of Waiver With Respect to Land; Indianapolis International Airport, Indianapolis, Indiana

AGENCY: Federal Aviation Administration (FAA), DOT.

ACTION: Notice.

SUMMARY: The FAA is considering a proposal to change 8.712 acres of airport land from aeronautical use to non-aeronautical use and to authorize the sale of airport property located at Indianapolis International Airport, Indianapolis, Indiana. The aforementioned land is not needed for aeronautical use.

The land consists of 6 original airport acquired parcels. The parcels were acquired under grants 3-18-0038-032, 3-18-0038-067, 3-18-0038-083, 3-18-0038-094, and 3-18-0038-098 and local funding.

There are no impacts to the airport by allowing the Indianapolis Airport Authority to dispose of the property. The land is not needed for future aeronautical development.

DATES: Comments must be received on or before September 13, 2019.

ADDRESSES: Documents are available for review by appointment at the FAA Chicago Airports District Office, Melanie Myers, Program Manager, 2300 East Devon Avenue, Des Plaines, Illinois 60018. Telephone: (847) 294-7525/Fax: (847) 294-7046 and Eric Anderson, Director of Properties, Indianapolis Airport Authority, 7800 Col. H. Weir Cook Memorial Drive, Indianapolis, IN 46241 Telephone: 317-487-5135.

Written comments on the Sponsor's request must be delivered or mailed to: Melanie Myers, Program Manager, Federal Aviation Administration, Chicago Airports District Office, 2300 East Devon Avenue, Des Plaines, Illinois 60018. Telephone: (847) 294-7525/Fax: (847) 294-7046.

FOR FURTHER INFORMATION CONTACT: Melanie Myers, Program Manager, Federal Aviation Administration, Chicago Airports District Office, 2300 East Devon Avenue, Des Plaines, Illinois 60018. Telephone: (847) 294-7525/Fax: (847) 294-7046.

SUPPLEMENTARY INFORMATION: In accordance with section 47107(h) of Title 49, United States Code, this notice is required to be published in the Federal Register 30 days before modifying the land-use assurance that requires the property to be used for an aeronautical purpose.

The disposition of proceeds from the sale of the airport property will be in accordance with FAA's Policy and Procedures Concerning the Use of Airport Revenue, published in the Federal Register on February 16, 1999 (64 FR 7696).

This notice announces that the FAA is considering the release of the subject airport property at the Indianapolis International Airport, Indianapolis, Indiana from federal land covenants, subject to a reservation for continuing right of flight as well as restrictions on the released property as required in FAA Order 5190.6B section 22.16. Approval does not constitute a commitment by the FAA to financially assist in the disposal of the subject airport property nor a determination of eligibility for grant-in-aid funding from the FAA.

Land Description

Instrument No. 1997-0055620

A portion of the West Half of the Northeast Quarter of Section 21, Township 15 North, Range 2 East, in Marion County, Indiana, and said portion being more particularly described as follows:

Beginning at the intersection of the center line of the National road with the East line of said Half-Quarter Section to a point 372 feet South of the Northeast corner of said Half-Quarter Section; and running thence South with the East line of said Half-Quarter Section 574.2 feet to the North line of the Right-of-Way of the Vandalia railroad; thence Southwesterly with the North line of said Right-of-way 320.3 feet; thence North 21 degrees West 515 feet to the center of the National Road at a point 523 feet from the Beginning; and thence North 69 degrees East in the center of said National Road 523 feet to the Place of Beginning.

Instrument No. 1997-0134267

A part of the East Half of the Northeast Quarter of Section 21, Township 15 North, Range 2 East, Marion County, Indiana, being described as follows:

Commencing at an iron pin which marks the accepted Northwest corner of the above captioned Northeast Quarter; thence North 88 degrees 40 minutes 08 seconds East (assumed bearing) with the North line of said Northeast Quarter 1338.46 feet to the midpoint of the North line of the Northeast Quarter, said point also being the Northwest corner of the East Half of the Northeast Quarter; thence South 00 degrees 00 minutes 01 seconds West with the West line of the East Half of the Northeast Quarter 387.78 feet to a PK nail on the centerline of Washington Street (U.S. 40) and the point of beginning of the parcel herein described; thence continuing South 00 degrees 00 minutes 01 seconds West 563.67 feet to an iron pin (Schneider Engr.) found in place on the North line of the former Vandalia Railroad right-of-way, now the property of the Indianapolis Airport Authority; thence with said North right-of-way line North 72 degrees 43 minutes 49 seconds East 212.07 feet (formerly described as 199.7 feet) to an iron pin on the West line of Lot No. 310 of A.V. Brown's Fourth Section of Western Heights Subdivision as recorded in Plat Book 21, page 135; thence North 00 degrees 57 minutes 35 seconds West, with the West line of said Brown's subdivision, 297.65 feet to an iron pin; thence South 87 degrees 47 minutes 39 seconds West 111.77 feet to an iron pin; thence North 00 degrees 00 minutes 01 seconds East 41.98 feet to an iron pin; thence North 05 degrees 17 minutes 31 seconds West 192.68 feet to a PK nail on the center line of Washington Street (U.S. 40); thence with said center line South 68 degrees 34 minutes 32 seconds West 73.13 feet to the point of beginning.

Instrument No. 1997-0087189

A part of the East Half of the Northeast Quarter of Section 21, Township 15 North, Range 2 East, Marion County, Indiana, being described as follows:

Commencing at an iron pin which marks the accepted Northwest corner of the above captioned Northeast Quarter; thence North 88 degrees 40 minutes 08 seconds East (assumed bearing) with the North line of said Northeast Quarter 1338.46 feet to the midpoint of the North line of the Northeast Quarter said point also being the Northwest corner of the East Half of the Northeast Quarter; thence South no degrees no minutes 01 seconds West with the West lien of the East Half of the Northeast Quarter 387.78 feet to a PK nail on the center line of Washington Street (U.S. 40); thence with said center line North 68 degrees 34 minutes 32 seconds East 73.13 feet to a PK nail and the Point of Beginning of the parcel herein described; thence South 05 degrees 17 minutes 31 seconds East 192.68 feet to an iron pin; thence South no degrees no minutes 01 seconds West 41.98 feet to an iron pin on the West line of Lot No. 310 of A.V. Brown's Fourth Section of Western Heights Subdivision as recorded in Plat 21, Page 135; thence North no degrees 57 minutes 35 seconds West 278.54 feet to a PK nail on the center line of Washington Street (U.S. 40); thence with said center line South 68 degrees 34 minutes 32 seconds West 134.06 feet to the Point of Beginning.

Instrument No. 920156761

Lot number Three Hundred Ten (310) in Arthur V. Brown's Fourth Section Western Heights, an Addition to the City of Indianapolis, the plat of which is recorded in Plat Book 21, page 135, in the Office of the Recorder of Marion County, Indiana except a strip of ground of the uniform width of Fifteen and Seven-tenths (15.7) feet taken by parallel lines off of the entire South side thereof.

Instrument No. 2005-0162883

Lot Number 309 in Arthur V. Brown's Fourth Section Western Heights, an addition to the City of Indianapolis, the plat of which is recorded in Plat Book 21, Page 135, in the office of the Recorder of Marion County, Indiana, except the part conveyed to the Pittsburgh, Cincinnati, Chicago and St. Louis Railroad Company in Land Record 82, Page 197.

Excepting therefrom that part of the described real estate conveyed to the State of Indiana by deed dated February 15, 2000 and recorded in Volume 2000-00067326.

Issued in Des Plaines, Illinois on July 31, 2019.
Jose DeLeon,
Acting Manager, Chicago Airports District Office, FAA, Great Lakes Region.

[FR Doc. 2019-17373 Filed 8-13-19; 8:45 am]

BILLING CODE 4910-13-P